NUCLEAR REGULATORY COMMISSION

Advisory Committee on Reactor Safeguards; Meeting Notice

In accordance with the purposes of sections 29 and 182b. of the Atomic Energy Act (42 U.S.C. 2039, 2232b), the Advisory Committee on Reactor Safeguards (ACRS) will hold a meeting on June 6-8, 2002, in Conference Room T-2B3, 11545 Rockville Pike, Rockville, Maryland.

Thursday, June 6, 2002

8:30 a.m.-8:35 a.m.: Opening Remarks by the ACRS Chairman (Open)—The ACRS Chairman will make opening remarks regarding the conduct of the meeting.

8:35 a.m.-10:30 a.m.: CRDM Cracking of Vessel Head Penetrations and Vessel Head Degradation (Open)—The Committee will hear presentations by and hold discussions with representatives of the NRC staff regarding issues related to the investigation of circumferential cracks in PWR control rod drive mechanism (CRDM) penetration nozzles and weldments, and reactor pressure vessel head degradation at the Davis-Besse Nuclear Power Plant.

10:45 a.m.-12:15 p.m.: Technical Assessment Generic Safety Issue (GSI)-189, “Susceptibility of Ice Condenser and Mark III Containments to Early Failure from Hydrogen Combustion During a Severe Accident” (Open)—The Committee will hear presentations by and hold discussions with representatives of the NRC staff regarding its technical basis and proposed recommendations for resolving GSI-189.

1:15 p.m.—2:15 p.m.: Technical Assessment of GSI-168, Environmental Qualification of Low-Voltage Instrumentation and Control Cables (Open)—The Committee will hear presentations by and hold discussions with representatives of the NRC staff regarding its technical basis and proposed recommendations for resolving GSI-168.

2:15 p.m.-3:30 p.m.: Development of Reliability/Availability Performance Indicators and Industry Trends (Open)—The Committee will hear presentations by and hold discussions with representatives of the NRC staff regarding the staff's initiatives to integrate the NRC programs for risk-based analysis of reactor operating experience into the reactor oversight process, specifically the development of reliability/availability performance indicators and industry trends.

3:45 p.m.-4:45 p.m.: Technical and Policy Issues Related to Advanced Reactors (Open)—The Committee will hear presentations by and hold discussions with representatives of the NRC staff regarding technical and policy issues related to advanced reactors.

5:00 p.m.-7:15 p.m.: Proposed ACRS Reports (Open)—The Committee will discuss proposed ACRS reports on matters considered during this meeting. In addition, the Committee may discuss a proposed report regarding confirmatory research program on high burnup fuel.

Friday, June 7, 2002

8:30 a.m.-8:35 a.m.: Opening Remarks by the ACRS Chairman (Open)—The ACRS Chairman will make opening remarks regarding the conduct of the meeting.

8:35-10 a.m.: Proposed Rulemaking to Endorse National Fire Protection Association (NFPA) 805, “Performance-Based Standard for Fire Protection for Light Water Reactor Electric Generating Plants'' (Open)—The Committee will hear presentations by and hold discussions with representatives of the NRC staff and the Nuclear Energy Institute regarding the proposed rulemaking to endorse NFPA 805 fire protection standard, and related matters.

10:15 a.m.-11:15 a.m.: Generic Resolution of Voids in the Concrete Containment (Open)—The Committee will hear presentations by and hold discussions with representatives of the NRC staff regarding the generic resolution of the issue of voids in the concrete containment walls.

11:15 a.m.-12 Noon: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

12-12:15 p.m.: Reconciliation of ACRS Comments and Recommendations (Open)—The Committee will discuss the responses from the NRC Executive Director for Operations (EDO) to comments and recommendations included in recent ACRS reports and letters. The EDO responses are expected to be made available to the Committee prior to the meeting.

1:15 p.m.-7:15 p.m.: Proposed ACRS Reports (Open)—The Committee will discuss proposed ACRS reports.

Saturday, June 8, 2002

8:30 a.m.-10 a.m.: Proposed ACRS Reports (Open)—The Committee will continue its discussion of proposed ACRS reports.

10:15 a.m.-11:30 a.m.: Discussion of Topics for Meeting with the NRC Commissioners (Open)—The Committee will discuss topics for meeting with the NRC Commissioners, which is scheduled for July 10, 2002.

12:45 p.m.-1:45 p.m.: Format and Content of the 2003 ACRS Report on the NRC Safety Research Program (Open)—The Committee will discuss the format, content, schedule, and assignments for the 2003 ACRS report to the Commission on the NRC Safety Research Program.

1:45 p.m.-2:45 p.m.: Proposed papers for the Quadripartite Meeting (Open)—The Committee will discuss proposed technical papers on specific topics that will be discussed at the Quadripartite meeting scheduled to be held on October 23-25, 2002, in Berlin, Germany.

2:45 p.m.-3:00 p.m.: Miscellaneous (Open)—The Committee will discuss matters related to the conduct of Committee activities and matters and specific issues that were not completed during previous meetings, as time and availability of information permit.

Procedures for the conduct of and participation in ACRS meetings were published in the Federal Register on October 3, 2001 (66 FR 50462). In accordance with those procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EDT.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/NRC/ADAMS/index.html.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: May 10, 2002.
Andrew L. Bates,
Advisory Committee Management Officer.

[FR Doc. 02-12256 Filed 5-15-02; 8:45 am]

BILLING CODE 7590-01-P